DEPARTMENT OF HEALTH AND HUMAN SERVICES

National Institutes of Health

National Institute of Environmental Health Sciences; Amended Notice of Meeting

Notice is hereby given of a change in the meeting of the National Institute of Environmental Health Sciences Special Emphasis Panel, July 15, 2013, 8:00 a.m. to July 15, 2013, 5:00 p.m., DoubleTree by Hilton, 4810 Page Creek Lane, Durham, NC, 27703 which was published in the Federal Register on May 20, 2013, 78 FR 97.

The meeting notice is amended to change the location of the meeting from the DoubleTree by Hilton to NIEHS, 111 T.W. Alexander Drive, Research Triangle Park, NC 27709. The meeting is closed to the public.

Dated: May 22, 2013.
Carolyn Baum,
Program Analyst, Office of Federal Advisory Committee Policy.

[FR Doc. 2013-12635 Filed 5-28-13; 8:45 am]

BILLING CODE 4140-01-P